NUCLEAR REGULATORY COMMISSION

Notice of Issuance of Final Design Approval Pursuant to 10 CFR Part 52, Appendix O, Westinghouse Electric Company AP1000 Standard Design

The U.S. Nuclear Regulatory Commission has issued a final design approval (FDA) to Westinghouse Electric Company for the AP1000 standard design pursuant to 10 CFR part 52, Appendix O. This FDA allows the AP1000 standard design to be referenced in an application for a construction permit or operating license under 10 CFR part 50, or an application for a combined license under 10 CFR part 52. In addition, the Commission has issued the Final Safety Evaluation Report (FSER) that supports issuance of the FDA.

Issuance of this FDA signifies completion of the technical review phase of the application for certification of the AP1000 design under Subpart B of 10 CFR part 52. The NRC staff performed its technical review of the AP1000 Design Control Document (DCD) and Probabilistic Risk Assessment in accordance with the standards for review of design certification applications set forth in 10 CFR 52.48 that were applicable and technically relevant to the AP1000 design or were modified by the exemptions identified in section 1.8 of the NRC's FSER (NUREG-1793).

On the basis of its evaluation and independent analyses, as described in the FSER, the NRC staff concludes that Westinghouse's application for design certification meets the applicable portions of 10 CFR 52.47 and the review standards in 10 CFR 52.48. Therefore, the AP1000 application is ready for the rulemaking phase. The NRC staff and Advisory Committee on Reactor Safeguards will utilize the AP1000 DCD and will rely on it in the rulemaking phase of the design certification review process pursuant to 10 CFR 52.51.

A copy of the AP1000 FSER and FDA have been placed in the NRC's Public Document Room, One White Flint North, 11555 Rockville Pike, Rockville, Maryland 20852, for review and copying by interested persons.

Dated in Rockville, Maryland, this 13th day of September, 2004.
For the Nuclear Regulatory Commission
William D. Beckner,
Program Director, New Research and Test Reactors Program Division of Regulatory Improvement Programs, Office of Nuclear Reactor Regulation.

[FR Doc. 04-20988 Filed 9-16-04; 8:45 am]

BILLING CODE 7590-01-P